POSTAL SERVICE

Notice of Availability of Final Supplemental Environmental Impact Statement for Next Generation Delivery Vehicles Acquisitions

Pursuant to the requirements of the National Environmental Policy Act (NEPA) of 1969, its implementing regulations at 39 CFR part 775, and the Council on Environmental Quality's regulations (40 CFR parts 1500-1508), the U.S. Postal Service announces availability of the Final Supplemental Environmental Impact Statement (SEIS) which analyzes the environmental impacts of a range of alternatives for a modification to the Postal Service's February 23, 2022, Record of Decision (ROD) to purchase, over ten years, 50,000 to 165,000 purpose-built, right-hand drive vehicles—the Next Generation Delivery Vehicle (NGDV)—to replace existing delivery vehicles nationwide that are beyond the end of their service life. A minimum of 10 percent of those vehicles would be battery electric vehicles (BEVs).

The Postal Service has identified Alternative 1 as its Preferred Alternative, which is the purchase and deployment of a mixed fleet of Commercial Off-the-Shelf and NGDV vehicles. Of the total quantity of 106,480 vehicles to be procured under this SEIS, 62 percent would be BEV. Interested parties may view the Final SEIS and all prior NEPA documents related to this procurement at http://uspsngdveis.com/.

References

1. U.S. Postal Service, Notice of Availability of Record of Decision, Next Generation Delivery Vehicles Acquisitions (87 FR 14588; Mar. 15, 2022).

2. U.S. Postal Service, Notice of Intent to Prepare a Supplement to the Next Generation Delivery Vehicles Acquisitions Final Environmental Impact Statement (87 FR 35581; June 10, 2022).

3. U.S. Postal Service, Notice to Postpone Public Hearing and Extend Public Comment Period for Supplement to the Next Generation Delivery Vehicles Acquisitions Final Environmental Impact Statement (87 FR 43561; July 21, 2022).

4. U.S. Postal Service, Notice of Availability of Draft Supplemental Environmental Impact Statement for Next Generation Delivery Vehicles Acquisitions (88 FR 125; June 30, 2023).

Sarah Sullivan,
Attorney, Ethics & Legal Compliance.

[FR Doc. 2023-21201 Filed 9-28-23; 8:45 am]

BILLING CODE P